FEDERAL COMMUNICATIONS COMMISSION

47 CFR Part 73

[DA 14-1357]

Radio Broadcasting Services; Various Locations

AGENCY: Federal Communications Commission.

ACTION: Final rule.

SUMMARY: The Audio Division amends the FM Table of Allotments, to remove certain vacant FM allotments that were auctioned in FM Auction 91 that are currently considered authorized stations. FM assignments for authorized stations and reserved facilities will be reflected solely in Media Bureau's Consolidated Database System (CDBS).

DATES: Effective October 6, 2014.

FOR FURTHER INFORMATION CONTACT: Rolanda F. Smith, Media Bureau, (202) 418-2700.

SUPPLEMENTARY INFORMATION: This is a summary of the Report and Order, DA 14-1357, adopted September 18, 2014, and released September 19, 2014. The full text of this document is available for inspection and copying during normal business hours in the Commission's Reference Center 445 12th Street SW., Washington, DC 20554. The complete text of this document may also be purchased from the Commission's duplicating contractor, Best Copy and Printing, Inc., 445 12th Street SW., Room CY-B402, Washington, DC, 20054, telephone 1-800-378-3160 or www.BCPIWEB.com. The Commission will not send a copy of this Report and Order pursuant to the Congressional Review Act, see 5 U.S.C. 801(a)(1)(A), because the adopted rules are rules of particular applicability. This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCASTING SERVICES

1. The authority citation for part 73 continues to read as follows:

Authority: 47 U.S.C. 154, 303, 334, 336 and 339.

§ 73.202 [Amended]

2. Amend § 73.202(b), the Table of FM Allotments, as follows:

a. Remove Coosada, under Alabama, Channel 226A; and Livingston, Channel 242A.

b. Remove Palmer, under Alaska, Channel 238C1.

c. Remove Ajo, under Arizona, Channel 295A.

d. Remove Clarendon, under Arkansas, Channel 281A; Gassville, Channel 224A.

e. Remove Cedarville, under California, Channel 260A; Coachella, Channel 278A; Kerman, Channel 224A; King City, Channel 275A; Tecopa, Channel 288A; Trona, Channel 247A; Twentynine Palms, Channel 270A; and Waterford, Channel 294A.

f. Remove Blanca, under Colorado, Channel 249C2; Crested Butte, Channel 246C3; Channel 299C3 at Gunnison; Orchard Mesa, Channel 249C3; and Silverton, Channel 281A.

g. Remove Daytona Beach Shores, under Florida, Channel 258A; Islamorada, Channel 283C2; and Key Largo, Channel 237C3.

h. Remove Calhoun, under Georgia, Channel 233A.

i. Remove Kihei, under Hawaii, Channel 264C2.

l. Remove Worthington, under Indiana, Channel 231A.

k. Remove Dulac, under Louisiana, Channel 230A; and St. Joseph, Channel 257C3.

l. Remove Adams, under Massachusetts, Channel 255A; East Harwich, Channel 254A; and Nantucket, Channel 249A.

m. Remove Ferrysburg, under Michigan, Channel 226A; Onaway, Channel 292C2; and Pentwater, Channel 280A.

n. Remove Red Lake, under Minnesota, Channel 231C1.

o. Remove Vaiden, under Mississippi, Channel 271A.

p. Remove Bourbon, under Missouri, Channel 231A.

q. Remove Charlo, under Montana, Channel 251C3; and Whitehall, Channel 274A.

r. Remove Humboldt, under Nebraska, Channel 272C3.

s. Remove Beatty, under Nevada, Channel 259A; Elko, Channels 274C3 and 284C3; Fallon Station, Channel 287C; Goldfield, Channel 262C1; and Pahrump, Channel 272C3.

t. Remove Alamogordo, under New Mexico, Channel 240C2 and Clayton, Channel 248C1.

u. Remove Celoron, under New York, Channel 237A; and Montauk, Channel 235A.

v. Remove Lone Wolf, under Oklahoma, Channel 224A; Muldrow, Channel 286A; and Valliant, Channel 234C3.

w. Remove Butte Falls, under Oregon, Channel 290A; Clatskanie, Channel 225C3; Diamond Lake, Channel 299A; Netarts, Channel 232C3; and Channel 299C3 at Prineville.

x. Remove Lawrence Park, under Pennsylvania, Channel 224A.

y. Remove Williston, under South Carolina, Channel 260A.

z. Remove Channel 246A, under Texas, Big Lake; Blanket, Channel 284A; Blossom, Channel 224C2; Colorado City, Channel 257A; Channel 289A at Cotulla; Dilley, Channel 291A; Elkhart, Channel 265A; Marquez, Channel 296A; Channel 287C3 at Menard; O'Brien, Channel 261A; Ozona, Channel 275C3; Panhandle, Channel 291C3; Rotan, Channel 290A; Shamrock, Channel 271A; Snyder, Channel 235C3; Stamford, Channel 233A; Wellington, Channel 248A; and Wheeler, Channel 280C2.

aa. Remove Albany, under Vermont, Channel 233A.

bb. Remove Wardensville, under West Virginia, Channel 239A.

cc. Remove Basin, under Wyoming, Channel 300C3; and Ten Sleep, Channel 267A.

dd. Remove Dededo, under Guam, Channel 243C1.

[FR Doc. 2014-23657 Filed 10-3-14; 8:45 am]

BILLING CODE 6712-01-P